SMALL BUSINESS ADMINISTRATION

[License No. 02/72-0625]

Founders Equity SBIC I, L.P.; Notice Seeking Exemption Under Section 312 of the Small Business Investment Act, Conflicts of Interest

Notice is hereby given that Founders Equity SBIC I, L.P., 711 Fifth Avenue, 5th Floor, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Founders Equity SBIC I, L.P. proposes to provide equity security financing to Richardson Foods, Inc., 101 Erie Blvd., Canajoharie, NY 13317. The financing will provide the company with additional capital to fund an acquisition and to meet working capital requirements, and for debt repayment.

The financing is brought within the purview of § 107.730(a) of the Regulations because Founders Equity NY, L.P., an Associate of Founders Equity SBIC I, L.P., owns more than ten percent of Richardson Foods, Inc. and therefore Richardson Foods, Inc. is considered an Associate of Founders Equity SBIC I, L.P. as defined in § 107.50 of the Regulations.

Notice is hereby given that any interested person may submit written comments on the transaction to the Associate Administrator for Investment, U.S. Small Business Administration, 409 Third Street, SW., Washington, DC 20416.

Dated: June 9, 2009.
Harry Haskins,
Acting Associate Administrator for Investment.

[FR Doc. E9-14813 Filed 6-23-09; 8:45 am]

BILLING CODE P